DEPARTMENT OF ENERGY

Federal Energy Regulatory Commission

[Docket No. CP10-431-000]

Natural Gas Pipeline Company of America LLC; Notice of Request Under Blanket Authorization

May 28, 2010.

Take notice that on May 14, 2010, Natural Gas Pipeline Company of America LLC (Natural), 3250 Lacey Road, Suite 700, Downers Grove, Illinois 60515, filed in Docket No. CP10-431-000, an application pursuant to sections 157.205, 157.208, 157.211 and 157.212 of the Commission's regulations under the Natural Gas Act (NGA) as amended, to construct and operate facilities necessary to deliver natural gas to Bridgeline Holdings L.P. (Bridgeline) in Johnsons Bayou, Cameron Parish, Louisiana, under Natural's blanket certificate issued in Docket No. CP82-402-000,¹ all as more fully set forth in the application which is on file with the Commission and open to the public for inspection.

¹ 20 FERC ¶ 62,415 (1982).

Natural proposes to construct and operate a delivery interconnect off its UTOS Lateral in order to deliver natural gas volumes to Bridgeline. To accomplish this, Natural would construct and operate a 16-inch tap; approximately 530 feet of 12-inch diameter pipeline; a metering platform; a dual 8-inch meter on the metering platform; and such other appurtenant facilities required to effect the interconnects to deliver up to 200,000 Dth/day of natural gas from its UTOS Lateral to Bridgeline. Natural further states that it would construct approximately 180 feet of 16-inch diameter interconnecting pipeline between the metering facilities located on the platform and the UTOS Lateral. Through the proposed piping, Natural would deliver natural gas from the platform and metering equipment to Bridgeline's existing pipeline system, where Bridgeline has already constructed the tap for this interconnection. Natural would also construct certain section 2.55(a) non-jurisdictional facilities, including a valve actuator, a meter tube outlet valve, an instrument building, cathodic protection for all piping and equipment. Natural also states that it would cost an estimated $6,100,000 to construct the proposed facilities.

Any questions concerning this application may be directed to Bruce H. Newsome, Vice President, Regulatory Products and Services, Natural Gas Pipeline Company of America LLC, 3250 Lacey Road, 7th Floor, Downers Grove, Illinois 60515-7918, or via telephone at (630) 725-3070, or by e-mail bruce_newsome@kindermorgan.com.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. 2010-13554 Filed 6-7-10; 8:45 am]

BILLING CODE 6717-01-P